DEPARTMENT OF THE INTERIOR

National Park Service

[NPS-WASO-NAGPRA-NPS0034595; PPWOCRADN0-PCU00RP14.R50000]

Notice of Inventory Completion: Northern Arizona University, Department of Anthropology, Flagstaff, AZ

AGENCY: National Park Service, Interior.

ACTION: Notice.

SUMMARY: The Northern Arizona University, Department of Anthropology has completed an inventory of human remains in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the Northern Arizona University, Department of Anthropology. If no additional requestors come forward, transfer of control of the human remains to the Indian Tribes or Native Hawaiian organizations stated in this notice may proceed.

DATES: Lineal descendants or representatives of any Indian Tribe or Native Hawaiian organization not identified in this notice that wish to request transfer of control of these human remains should submit a written request with information in support of the request to the Northern Arizona University, Department of Anthropology at the address in this notice by November 10, 2022.

ADDRESSES: Dr. Kerry Thompson, Department of Anthropology, Northern Arizona University, Box 15200, Flagstaff, AZ 86011-5200, telephone (928) 523-0212, email Kerry.Thompson@nau.edu.

SUPPLEMENTARY INFORMATION: Notice is here given in accordance with the Native American Graves Protection and Repatriation Act (NAGPRA), 25 U.S.C. 3003, of the completion of an inventory of human remains under the control of the Northern Arizona University, Department of Anthropology, Flagstaff, AZ. The human remains were removed from various locations in eastern Arizona near Springerville, Taylor, and Lyman Lake (Navajo and Apache Counties).

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Northern Arizona University, Department of Anthropology (NAU) professional staff in consultation with representatives of the Hopi Tribe of Arizona.

History and Description of the Remains

At unknown dates prior to 1990, human remains representing, at minimum, eight individuals were removed from locations near Springerville (Navajo County), Taylor (Apache County), and Lyman Lake (Apache County), Arizona. NAU acquired these human remains through both transfer from private individuals prior to the enactment in 1990 of state burial laws and (poorly documented) field collection by University personnel prior to 1990. No known individuals were identified. No associated funerary objects are present.

Accompanying documentation and non-invasive/non-destructive skeletal analysis show that these human remains belong to Native American individuals from the Southwest. Based on the following types of information, a cultural affiliation exists between these Native American human remains and the Hopi Tribe of Arizona: cultural, geographical, biological, archeological, anthropological, oral traditional, and expert opinion.

Determinations Made by the Northern Arizona University, Department of Anthropology

Northern Arizona University, Department of Anthropology faculty have determined that:

• Pursuant to 25 U.S.C. 3001(9), the human remains described in this notice represent the physical remains of eight individuals of Native American/Southwest ancestry.

• Pursuant to 25 U.S.C. 3001(2), there is a relationship of shared group identity that can be reasonably traced between the Native American human remains and the Hopi Tribe of Arizona.

Additional Requestors and Disposition

Lineal descendants or representatives of any Indian Tribe or Native Hawaiian organization not identified in this notice that wish to request transfer of control of these human remains should submit a written request with information in support of the request to Dr. Kerry Thompson, Department of Anthropology, Northern Arizona University, Box 15200, Flagstaff, AZ 86011-5200, telephone (928) 523-0212, email Kerry.Thompson@nau.edu, by November 10, 2022. After that date, if no additional requestors have come forward, transfer of control of the human remains to the Hopi Tribe of Arizona may proceed.

The Northern Arizona University, Department of Anthropology is responsible for notifying the Hopi Tribe of Arizona that this notice has been published.

Dated: September 27, 2022.
Melanie O'Brien,
Manager, National NAGPRA Program.

[FR Doc. 2022-22040 Filed 10-7-22; 8:45 am]

BILLING CODE 4312-52-P